DEPARTMENT OF TRANSPORTATION

Federal Aviation Administration

Notice of Availability of Final Environmental Impact Statement and Final General Conformity Determination; Hartsfield Atlanta International Airport, Atlanta, Georgia

AGENCY: Federal Aviation Administration (FAA), DOT.

ACTION: Notice of Availability—Final Environmental Impact Statement (FEIS) and Final General Conformity Determination.

SUMMARY: Pursuant to Section 102(2)(C) of the National Environmental Policy Act (NEPA) of 1969, as amended, as implemented by the Council on Environmental Quality (40 CFR Parts 1500-1508), and the requirements of Section 176 of the Clean Air Act Amendments (CAAA) of 1990, the Federal Aviation Administration announces the availability of the Final Environmental Impact Statement and Final General Conformity Determination (Appendix I). The FEIS and Final General Conformity Determination have been filed with the Environmental Protection Agency, and have been made available to other government agencies and interested private parties for the City of Atlanta Department of Aviation's proposal to construct a 9,000-foot long by 150-foot wide Fifth runway and associated projects at Hartsfield Atlanta International Airport, Atlanta, Georgia. The FEIS and Final Conformity Determination are available for a 30-day review starting August 24, 2001 after 1:00 p.m. at locations listed under SUPPLEMENTARY INFORMATION. Written comments will be accepted by the FAA until September 24, 2001, or 30 days after the publication of this Federal Register Notice, whichever is later.

FOR FURTHER INFORMATION CONTACT: Ms. Donna M. Meyer, Environmental Specialist, Federal Aviation Administration, Atlanta Airports District Office, 1701 Columbia Avenue, Suite 2-260, College Park, Georgia, 30337-2747, Phone (404) 305-7150.

SUPPLEMENTARY INFORMATION: The City of Atlanta Department of Aviation (DOA), owner and operator of the airport, proposes to construct and operate airside and landside improvements at the Hartsfield Atlanta International Airport. The DOA's proposed project consists of constructing and operating a full service air carrier runway 9,000-feet long by 150-feet wide, with a lateral separation from Runway 9R/27L of 4,200 feet, and shifted approximately 1,900 feet east of the previously environmentally approved 6,000-foot by 100-foot wide runway laterally separated by approximately 4,100 feet from Runway 9R/27L. Projects associated with the runway include two airfield bridges spanning across Interstate 285, the modification of local roadways, and land acquisition. The FEIS has examined the sponsor's proposal project and improvements along with other reasonable alternatives to the proposed project. The FEIS has assessed and considered the potential short and long term impacts on the natural and built environments that would occur as the result of DOA's proposal. Mitigation measures to compensate unavoidable adverse impacts from the proposed project have been identified and committed to by the Department of Aviation.

The Federal Highway Administration (FHWA) has acted as a cooperating agency to the FAA in this EIS. The FAA encourages interested parties to review the FEIS and Final General Conformity Determination and provide any comments during the timeframe identified above.

For the convenience of interested parties and the public, the FEIS and Final General Conformity Determination may be reviewed at the following locations:

Fulton County Central Library, 1 Margaret Mitchell Square, Atlanta

College Park Library, 3647 Main Street, College Park

Clayton County Headquarters Library, 865 Battlecreek Road, Jonesboro

South Fulton Branch, Atlanta-Fulton Public Library, 4055 Flat Shoals Road, Union City

Forest Park Public Library, 696 Main Street, Forest Park

Hartsfield Atlanta International Airport, Department of Aviation Offices—Atrium Suite 430, Atlanta

Federal Aviation Administration, Atlanta Airports District Office, Suite 2-260, 1701 Columbia Avenue, College Park

Issued in College Park, Georgia, August 16, 2001.
Scott L. Seritt,
Manager, Atlanta Airports District Office.

[FR Doc. 01-21358 Filed 8-22-01; 8:45 am]

BILLING CODE 4901-13-M